FEDERAL COMMUNICATIONS COMMISSION

[OMB 3060-0633]

Information Collection Being Reviewed by the Federal Communications Commission

AGENCY: Federal Communications Commission.

ACTION: Notice and request for comments.

SUMMARY: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid control number. No person shall be subject to any penalty for failing to comply with a collection of information subject to the PRA that does not display a valid Office of Management and Budget (OMB) control number.

DATES: Written PRA comments should be submitted on or before February 17, 2015. If you anticipate that you will be submitting comments, but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION: OMB Control No.: 3060-0633.

Title: 73.1230, 74.165, 74.432, 74,564, 74.664, 74.765, 74.832, 74.1265, Posting or Filing of Station License.

Form No.: Not applicable.

Type of Review: Revision of a currently approved collection.

Respondents: Business or other for-profit entities; Not-for-profit Institutions; Federal Government and State, local or tribal government.

Number of Respondents and Responses: 2,784 respondents and 2,784 responses.

Estimated Time per Response: 0.083 hours.

Frequency of Response: On occasion reporting requirement, recordkeeping requirement, and third party disclosure requirement.

Obligation to Respond: Required to obtain or retain benefits. The statutory authority for this collection of information is contained in Section 154(i) of the Communications Act of 1934, as amended.

Total Annual Burden: 231 hours.

Total Annual Cost: $24,860.

Privacy Act Impact Assessment: No impact(s)

Nature and Extent of Confidentiality: In general there is no need for confidentiality with this collection of information.

Needs and Uses: On June 2, 2014, the Commission released a Second Report and Order, FCC 14-62, WT Docket Nos. 08-166 and 08-167 and ET Docket No. 10-24, “Revisions to Rules Authorizing the Operation of Low Power Auxiliary Stations in the 698-806 MHz Band.” This order expanded eligibility for low power auxiliary station licenses under Part 74 by adding two new categories of eligible entities: “large venue owner or operator” and “professional sound company.” To be eligible for a Part 74 license, a large venue owner or operator and a professional sound company must routinely use 50 or more low power auxiliary station devices, where the use of such devices is an integral part of major events or productions

The Commission seeks OMB approval for a revision of this currently approved information collection to increase the number of respondents by 200 and the number of responses by 200 to reflect the estimated increase in licensed low power auxiliary station operators who will be subject to the requirement at section 74.832(j) to retain the station license in the licensee's files or post it at the transmitter or control point of the stations.

Federal Communications Commission.
Marlene H. Dortch,
Secretary, Office of the Secretary, Office of the Managing Director.

[FR Doc. 2014-29754 Filed 12-18-14; 8:45 am]

BILLING CODE 6712-01-P